DEPARTMENT OF THE INTERIOR

Bureau of Land Management

[LLES960000.L14400000.ET0000.223; MNES-059784]

Notice of Application for Withdrawal and Segregation of Federal Lands; Cook, Lake, and Saint Louis Counties, Minnesota

AGENCY: Bureau of Land Management, Interior.

ACTION: Notice of application.

SUMMARY: The United States Department of Agriculture, Forest Service (USFS) has filed an application with the Bureau of Land Management (BLM) requesting the Secretary of the Interior to withdraw, for a 20-year term, approximately 225,378 acres of National Forest System lands in the Rainy River Watershed on the Superior National Forest in northeastern Minnesota, from disposition under the United States mineral and geothermal leasing laws, subject to valid existing rights. This notice segregates the lands for up to two years from operation of the United States mineral and geothermal leasing laws, subject to valid existing rights; provides an opportunity for the public to submit written comments on the withdrawal application; and notifies the public that one or more public meetings will be held regarding the application.

DATES: Comments regarding this withdrawal application must be received by January 19, 2022. A notice for public meeting(s) regarding the withdrawal application will be announced separately in the Federal Register, in at least one local newspaper, and on agency websites at least 30 days before meeting(s) are held during this 90-day comment period.

ADDRESSES: Comments regarding this withdrawal proposal should be sent to F. David Radford, Deputy State Director of Geospatial Services, BLM Eastern States Office, RE: Superior National Forest Withdrawal Application, 5275 Leesburg Pike, Falls Church, Virginia 22041; or by email to BLM_ES_Lands@blm.gov (please include Superior National Forest Withdrawal Application in the subject line).

FOR FURTHER INFORMATION CONTACT: F. David Radford, BLM Eastern States Office, telephone: 703-558-7759, email: fradford@blm.gov during regular business hours, 8 a.m. to 4:30 p.m., Monday through Friday, except holidays. Persons who use a telecommunications device for the deaf (TDD) may call the Federal Relay Service at 1-800-877-8339 to contact the above individual. The Service is available 24 hours a day, 7 days a week, to leave a message or question. You will receive a reply during normal business hours.

A map and other information related to the withdrawal application are available at the USFS Superior National Forest, 8901 Grand Avenue Place, Duluth, Minnesota 55808.

SUPPLEMENTARY INFORMATION: The USFS has filed an application with the BLM requesting the Secretary of the Interior to withdraw all federal lands and interests in lands (excluding lands with federally owned fractional mineral interests) situated within the exterior boundaries of the area depicted on the map submitted with the application, entitled Appendix B: Superior National Forest, dated September 20, 2021, from disposition under the United States mineral and geothermal leasing laws for a period of 20 years, subject to valid existing rights. The above-referenced map is available from BLM or USFS by sending a request to the physical address in the ADDRESSES and FOR FURTHER INFORMATION CONTACT sections above, as well as online via https://www.blm.gov/sites/blm.gov/files/docs/2021-10/AppendixB_WithdrawalMap_20210916.pdf. The purpose of the proposed withdrawal is to advance a comprehensive approach to protect and preserve the fragile and vital social and natural resources, ecological integrity, and wilderness values in the Rainy River Watershed, the Boundary Waters Canoe Area Wilderness (BWCAW) and the Boundary Waters Canoe Area Wilderness Mining Protection Area (MPA) in northeastern Minnesota, which are threatened by potential future sulfide mining. Development of sulfide-bearing mineral resources present in the withdrawal area could lead to permanently stored waste materials and other conditions upstream of the BWCAW and the MPA with the potential to generate and release effluent with elevated levels of acidity, metals, and other potential contaminants. Failure of required mitigation measures, containment facilities, or remediation efforts at mine sites and their related facilities could lead to irreversible degradation of this key water-based wilderness resource. The purpose of the proposed withdrawal is also to prevent the effects of climate change on precipitation regimes and protect the health, traditional cultural values, and subsistence-based lifestyle of the Tribes, which rely on resources in the region such as wild rice that are particularly susceptible to adverse impacts associated with mining. The lands will remain open to other forms of use and disposition as may be allowed by law on National Forest System lands, including the sale of mineral materials.

All the National Forest System lands identified in the townships below and any lands acquired by the Federal government within the exterior boundaries shown on the above referenced map are included in the withdrawal application. This area excludes the BWCAW and the MPA, as depicted on the above referenced map.

National Forest System Lands

Superior National Forest

4th Principal Meridian, Minnesota

Tps. 61 and 62 N., Rs. 5 W.

Tps. 60 to 62 N., Rs. 6 W.

Tps. 59 and 61 N., Rs. 7 W.

Tps. 59 to 61 N., Rs. 8 W.,

Tps. 58 to 61 N., Rs. 9 W.

Tps. 57 to 62 N., Rs. 10 W.

Tps. 57 to 63 N., Rs. 11 W.1Tp. 59 N., R. 12 W.

Tps. 61 to 63 N., Rs. 12 W.

Tps. 61 to 63 N., Rs. 13 W.

The areas described contain approximately 225,378 acres of National Forest System lands in Cook, Lake, and Saint Louis Counties.

Non-Federal lands within the area proposed for withdrawal total approximately 223,000 acres in Cook, Lake, and Saint Louis Counties. As non-Federal lands, these parcels would not be affected by the temporary segregation or proposed withdrawal, unless they are subsequently acquired by the Federal government.

Congress designated the BWCAW and established the MPA to protect and preserve the ecological richness of the lakes, waterways, and forested wilderness along the Canadian border. The protection of the Rainy River Watershed would help the preservation of the BWCAW and MPA, as well as Canada's Quetico Provincial Park, which are all interconnected through the unique hydrology in the region.

The use of a right-of-way, interagency agreement, or cooperative agreement would not meet the purpose of this proposed withdrawal because such an action would not adequately constrain mineral and geothermal leasing to provide adequate protection throughout this pristine natural area.

No alternative sites are feasible as the lands subject to the withdrawal application are the lands for which protection is sought from the impacts of potential future exploration and development under the United States mineral and geothermal leasing laws. No water will be needed to fulfill the purpose of the requested withdrawal.

The USFS will serve as the lead agency for analyzing the impacts of the proposed withdrawal under the National Environmental Policy Act. The USFS will designate the BLM as a cooperating agency. The BLM will independently evaluate and review the draft and final analysis and any other documents needed for the Secretary of the Interior to make a decision on the proposed withdrawal.

Records related to the withdrawal application may be examined by contacting the individual listed in the FOR FURTHER INFORMATION CONTACT section above.

For a period until January 19, 2022, all persons who wish to submit comments, suggestions, or objections related to the withdrawal application may present their views in writing to the BLM Deputy State Director of Geospatial Services at the BLM Eastern States Office address or the email listed in the ADDRESSES section above. Comments, including the names and street addresses of respondents, will be available for public review by appointment at the BLM Eastern States Office during regular business hours.

Before including your address, phone number, email address, or other personal identifying information in your comment, you should be aware that your entire comment—including your personal identifying information—may be made publicly available at any time. While you can ask us to withhold your personal identifying information from public review, we cannot guarantee that we will be able to do so.

Notice is hereby given that a public meeting in connection with the application for withdrawal will be scheduled within the 90-day comment period. The BLM will publish a notice of the time and place in the Federal Register, at least one local newspaper, and on agency websites at least 30-days before the scheduled date of the meeting. During this 90-day comment period, if determined to be needed, the BLM will hold additional meetings in other areas of the State.

For a period until October 23, 2023, subject to valid existing rights, the National Forest System lands described in this notice will be temporarily segregated from operation of the United States mineral and geothermal leasing laws, unless the application is denied or canceled, or the withdrawal is approved prior to that date. All other activities currently consistent with the Superior National Forest Land and Resource Management Plan are not restricted by this segregation, including public recreation, mineral materials sales, and other activities compatible with preservation of the character of the area, subject to USFS discretionary approval.

The application will be processed in accordance with the regulations set forth in 43 CFR part 2300.

Mitchell Leverette,
BLM Eastern States State Director.

[FR Doc. 2021-22958 Filed 10-20-21; 11:15 am]

BILLING CODE 4310-GJ-P